DEPARTMENT OF HOMELAND SECURITY

Federal Emergency Management Agency

[Docket ID FEMA-2014-0002; Internal Agency Docket No. FEMA-B-1434]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 24, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1434, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-based studies:

Community | Community map repository address
Kent County, Rhode Island (All Jurisdictions)
Narragansett HUC8 Watershed
Maps Available for Inspection Online at: http://www.fema.gov/preliminaryfloodhazarddata
City of Warwick | Planning Department, 3275 Post Road, Warwick, RI 02886.
Town of Coventry | Department of Public Works, 1675 Flat River Road, Coventry, RI 02816.
Town of East Greenwich | Department of Public Works, 111 Pierce Street, East Greenwich, RI 02818.
Town of West Warwick | Town Hall, 1170 Main Street, West Warwick, RI 02893.
Providence County, Rhode Island (All Jurisdictions)
City of Central Falls | City Hall, 580 Broad Street, Central Falls, RI 02863.
City of Cranston | City Hall, 869 Park Avenue, Cranston, RI 02910.
City of East Providence | City Hall, 145 Taunton Avenue, East Providence, RI 02914.
City of Pawtucket | Department of Planning and Development, 175 Main Street, Pawtucket, RI 02860.
City of Providence | City Administration Building, 444 Westminster Street, Providence, RI 02903.
Town of Cumberland | Department of Public Works, 45 Broad Street, Cumberland, RI 02864.
Town of Johnston | Town Hall, 1385 Hartford Avenue, Johnston, RI 02919.
Town of Lincoln | Town Hall, 100 Old River Road, Lincoln, RI 02865.
Town of North Providence | Department of Public Works, Two Mafalda Street, North Providence, RI 02911.
Town of North Smithfield | Town Hall, One Main Street, Slatersville, RI 02876.
Town of Scituate | Town Hall, 195 Danielson Pike, Scituate, RI 02857.
Town of Smithfield | Town Hall, 64 Farnum Pike, Smithfield, RI 02917.
Lower Wisconsin Watershed
Columbia County, Wisconsin, and Incorporated Areas
Maps Available for Inspection Online at: http://www.fema.gov/preliminaryfloodhazarddata
City of Columbus | City Hall, 105 North Dickason Boulevard, Columbus, WI 53925.
City of Lodi | City Hall, 130 South Main Street, Lodi, WI 53555.
City of Portage | City Hall, 115 West Pleasant Street, Portage, WI 53901.
City of Wisconsin Dells | City Hall, 300 La Crosse Street, Wisconsin Dells, WI 53965.
Unincorporated Areas of Columbia County | Carl C. Frederick Administration Building, 400 DeWitt Street, Portage, WI 53901.
Village of Cambria | Village Hall, 111 West Edgewater Street, Cambria, WI 53923.
Village of Doylestown | Village Hall, W3005 Railroad Street, Doylestown, WI 53928.
Village of Fall River | Village Hall, 641 South Main Street, Fall River, WI 53932.
Village of Pardeeville | Village Hall, 114 Lake Street, Pardeeville, WI 53954.
Village of Poynette | Village Hall, 106 South Main Street, Poynette, WI 53955.
Village of Wyocena | Village Hall, 165 East Dodge Street, Wyocena, WI 53969.
Crawford County, Wisconsin, and Incorporated Areas
City of Prairie du Chien | City Hall, 214 East Blackhawk Avenue, Prairie du Chien, WI 53821.
Unincorporated Areas of Crawford County | Administration Building, 225 North Beaumont Road, Prairie du Chien, WI 53821.
Village of Bell Center | Village Hall, 430 Bell Center Road, Bell Center, WI 54631.
Village of De Soto | Village Hall, 115 South Houghton Street, De Soto, WI 54624.
Village of Ferryville | Village Hall, 170 Pine Street, Ferryville, WI 54628.
Village of Gays Mills | Village Hall, 16381 State Highway 131, Gays Mills, WI 54631.
Village of Lynxville | Village Hall, 475 Bench Street, Lynxville, WI 54626.
Village of Soldiers Grove | Village Hall, 102 Passive Sun Drive, Soldiers Grove, WI 54655.
Village of Steuben | Village Hall, 123 Midway Street, Steuben, WI 54657.
Village of Wauzeka | Village Hall, 213B East Front Street, Wauzeka, WI 53826.
Grant County, Wisconsin, and Incorporated Areas
City of Boscobel | City Hall, 1006 Wisconsin Avenue, Boscobel, WI 53805.
City of Lancaster | City Hall, 206 South Madison Street, Lancaster, WI 53813.
City of Platteville | City Hall, 75 North Bonson Street, Platteville, WI 53818.
Unincorporated Areas of Grant County | Tax Listers Office, 111 South Jefferson Street, Lancaster, WI 53813.
Village of Bagley | Village Hall, 400 South Jackley Lane, Bagley, WI 53801.
Village of Bloomington | Village Hall, 453 Canal Street, Bloomington, WI 53804.
Village of Blue River | Village Hall, 201 Clinton Street, Blue River, WI 53518.
Village of Mount Hope | Village Hall, 127 East Main Street, Mount Hope, WI 53816.
Village of Muscoda | Village Hall, 206 North Wisconsin Avenue, Muscoda, WI 53573.

II. Non-Watershed-based studies:

Community | Community map repository address
Schuyler County, Illinois, and Incorporated Areas
Maps Available for Inspection Online at: http://www.fema.gov/preliminaryfloodhazarddata
Unincorporated Areas of Schuyler County | Schuyler County Highway Department, 121 Henninger Drive, Rushville, IL 62681.
Butler County, Ohio, and Incorporated Areas
Maps Available for Inspection Online at: http://www.fema.gov/preliminaryfloodhazarddata
City of Fairfield | City Hall, 5350 Pleasant Avenue, Fairfield, OH 45014.
City of Hamilton | Planning Department, 345 High Street, Suite 370, Hamilton, OH 45011.
City of Middletown | City Hall, One Donham Plaza, Middletown, OH 45042.
City of Monroe | City Hall, 233 South Main Street, Monroe, OH 45050.
City of Oxford | City Hall, Building Department, 101 East High Street, Oxford, OH 45056.
City of Trenton | City Hall, 11 East State Street, Trenton, OH 45067.
Unincorporated Areas of Butler County | Butler County Administrative Center, Building and Zoning Department, 130 High Street, 1st Floor, Hamilton, OH 45011.
Village of Millville | Village Hall, 2860 Ross Hanover Road, Millville, OH 45013.
Village of New Miami | Village Hall, 268 Whitaker Avenue, New Miami, OH 45011.
Village of Seven Mile | Village Hall, 201 High Street, Seven Mile, OH 45062.
Village of Somerville | Village Hall, 146 Main Street, Somerville, OH 45064.

(Catalog of Federal Domestic Assistance No. 97.022, “Flood Insurance.”)

Dated: August 4, 2014.
Roy E. Wright,
Deputy Associate Administrator for Mitigation, Department of Homeland Security, Federal Emergency Management Agency.

[FR Doc. 2014-20144 Filed 8-22-14; 8:45 am]

BILLING CODE 9110-12-P